ENVIRONMENTAL PROTECTION AGENCY

[CERCLA-07-2023-0005; FRL-10752-01-R7]

Proposed CERCLA Settlement Agreement for the Newton County Mine Tailings Superfund Site, Newton County, Missouri

AGENCY: Environmental Protection Agency (EPA).

ACTION: Notice; request for public comment.

SUMMARY: In accordance with the Comprehensive Environmental Response, Compensation and Liability Act of 1980, as amended (“CERCLA”), notice is hereby given by the U.S. Environmental Protection Agency (“EPA”), Region 7, of a proposed settlement agreement (“Agreement”) with Environmental Quality Management, Inc. (“EQM”) for the Newton County Mine Tailings Superfund Site (“Site”), Newton County, Missouri.

DATES: Comments must be received on or before April 14, 2023.

ADDRESSES: You may send comments by email to Kate Curl at curl.kate@epa.gov or by mail to Kate Curl, U.S. EPA, Office of Regional Counsel, 11201 Renner Boulevard, Lenexa, Kansas 66219. Comments should reference the Newton County Mine Tailings Superfund Site, CERCLA Section 122(h) Settlement Agreement, Docket No. CERCLA-07-2023-0005.

FOR FURTHER INFORMATION CONTACT: A copy of the proposed settlement may be obtained from Kate Curl, Attorney, Office of Regional Counsel, U.S. EPA Region 7, 11201 Renner Boulevard, Lenexa, Kansas 66219; telephone number: (913) 551-7745; email address: curl.kate@epa.gov.

SUPPLEMENTARY INFORMATION: Under the proposed CERCLA section 122(h) settlement agreement, Environmental Quality Management, Inc. agrees to reimburse EPA for $1,678,330.40 plus an additional sum of interest on that amount calculated from May 12, 2022, through the date of payment for past response costs incurred in connection with EQM's disposal of lead-contaminated backfill soil in Granby City Park in September and October 2016 as part of its work as a contractor to remediate areas of the Newton County Mine Tailings Superfund Site. EQM's placement of contaminated backfill in Granby City Park required EPA, between July 2020 and March 2021, to re-remediate approximately 43% of the Granby City Park area that EQM had already remediated causing EPA to incur additional response costs.

For thirty (30) days following the date of publication of this document, EPA will receive written comments relating to the proposed agreement. EPA will consider all comments received and may modify or withdraw its consent to the proposed agreement if comments received disclose facts or considerations that indicate that the proposed agreement is inappropriate, improper, or inadequate. EPA's response to any comments received will be available for public inspection at the EPA Region 7 Office, located at, 11201 Renner Boulevard, Lenexa, Kansas 66219.

Robert D. Jurgens,
Director, Superfund & Emergency Management Division, U.S. Environmental Protection Agency, Region 7.

[FR Doc. 2023-05202 Filed 3-14-23; 8:45 am]

BILLING CODE 6560-50-P